OFFICE OF GOVERNMENT ETHICS

Submission for OMB Review; Comment Request for Unmodified Qualified Trust Model Certificates and Model Trust Documents

AGENCY: Office of Government Ethics (OGE).

ACTION: Notice.

SUMMARY: The Office of Government Ethics has submitted the executive branch qualified trust model certificates and model trust documents to the Office of Management and Budget (OMB) for review and two-year extension of approval under the Paperwork Reduction Act. A total of twelve OGE model certificates and model documents for qualified trusts are involved. OGE is proposing no changes to these forms.

DATES: Comments by the public and agencies on this information collection, as proposed with no modifications, should be received by July 1, 2005.

ADDRESSES: Comments should be sent to Brenda Aguilar, Office of Information and Regulatory Affairs, Office of Management and Budget, New Executive Office Building, Room 10235, Washington, DC 20503; Telephone: 202-395-6929; FAX: 202-395-6974; E-mail: brenda_aguilar@omb.eop.gov.

FOR FURTHER INFORMATION CONTACT: Mary T. Donovan at the U.S. Office of Government Ethics; Telephone: 202-482-9232; TDD: 202-482-9293; FAX: 202-482-9237; E-mail: mtdonova@oge.gov. Copies of the executive branch qualified trust model certificates and documents may be obtained, without charge, by contacting Ms. Donovan.

SUPPLEMENTARY INFORMATION: The Office of Government Ethics has submitted unmodified versions of all twelve qualified trust certificates and model documents for a two-year extension of approval by OMB under the Paperwork Reduction Act (44 U.S.C. chapter 35). The twelve documents, all included under OMB paperwork control number 3209-0007, are scheduled to expire at the end of June 2005.

On January 7, 2005, OGE issued its first round Federal Register notice to announce its forthcoming request to OMB for paperwork renewal of the unmodified qualified trust model certificates and model trust documents. See 70 FR 1444-1446, with comments due by March 23, 2005. (OGE did not receive any comments or requests for copies of the unmodified qualified trust model certificates and model trust documents.) In that notice, and this one, OGE has proposed no changes to the qualified trust model documents at this time. In late 2006, OGE anticipates modifying some or all of these information collections by re-writing them in plain English to make them easier to understand.

In 2003, OGE updated the OGE/GOVT-1 system of records notice (covering SF 278 Public Financial Disclosure Reports and other name-retrieved ethics program records), including the addition of the three new routine uses. As a result, the Privacy Act Statement on each of the trust documents, which include paraphrases of the routine uses, is affected. OGE has not incorporated this revision into the trust documents at this time, since a more thorough revision of the trust documents is planned in the next year or two. However, upon distribution of the trust documents, OGE will inform users of the revision to the Privacy Act Statement. OGE has included a summary of the changes relevant to the trust documents in its paperwork clearance submission to OMB.

OGE is the supervising ethics office for the executive branch of the Federal Government under the Ethics in Government Act of 1978 (Ethics Act). Presidential nominees to executive branch positions subject to Senate confirmation and any other executive branch officials may seek OGE approval for Ethics Act qualified blind or diversified trusts to be used to avoid conflicts of interest.

OGE is the sponsoring agency for the model certificates and model trust documents for qualified blind and diversified trusts of executive branch officials set up under section 102(f) of the Ethics Act, 5 U.S.C. app. § 102(f), and OGE's implementing financial disclosure regulations at subpart D of 5 CFR part 2634. The various model certificates and model trust documents are utilized by OGE and settlors, trustees and other fiduciaries in establishing and administering these qualified trusts.

There are two categories of information collection requirements which OGE plans to submit, each with its own related reporting model certificates or model trust documents which are subject to paperwork review and approval by OMB. The OGE regulatory citations for these two categories, together with identification of the forms used for their implementation, are as follows:

i. Qualified trust certifications—5 CFR 2634.401(d)(2), 2634.403(b)(11), 2634.404(c)(11), 2634.406(a)(3) & (b), 2634.408, 2634.409 and appendixes A & B to part 2634 (the two implementing forms, the Certificate of Independence and Certificate of Compliance, are codified respectively in the cited appendixes; see also the Privacy Act and Paperwork Reduction Act notices thereto in appendix C); and

ii. Qualified trust communications and model provisions and agreements—5 CFR 2634.401(c)(1)(i) & (d)(2), 2634.403(b), 2634.404(c), 2634.408 and 2634.409 (the ten implementing forms are the: (A) Blind Trust Communications (Expedited Procedure for Securing Approval of Proposed Communications); (B) Model Qualified Blind Trust Provisions; (C) Model Qualified Diversified Trust Provisions; (D) Model Qualified Blind Trust Provisions (For Use in the Case of Multiple Fiduciaries); (E) Model Qualified Blind Trust Provisions (For Use in the Case of an Irrevocable Pre-Existing Trust); (F) Model Qualified Diversified Trust Provisions (Hybrid Version); (G) Model Qualified Diversified Trust Provisions (For Use in the Case of Multiple Fiduciaries); (H) Model Qualified Diversified Trust Provisions (For Use in the Case of an Irrevocable Pre-Existing Trust); (I) Model Confidentiality Agreement Provisions (For Use in the Case of a Privately Owned Business); and (J) Model Confidentiality Agreement Provisions (For Use in the Case of Investment Management Activities)).

The communications formats and the confidentiality agreements (items ii (A), (I) and (J) above) would not be available to the public because they contain sensitive, confidential information. All the other completed model trust certificates and model trust documents (except for any trust provisions that relate to the testamentary disposition of trust assets) are publicly available based upon a proper Ethics Act request (via an OGE Form 201).

The hour burden listed below is based on the amount of time imposed on a trust administrator or private representative. The detailed paperwork estimates below for the various trust certificates and model documents (an estimated total of 46 per year, down 248 from the prior three-year period) are based primarily on OGE's experience with administration of the qualified trust program.

i. Trust Certificates:

A. Certificate of Independence: Total filers (executive branch): 5; Private citizen filers (100%): 5; OGE-processed certificates (private citizens): 5; private citizen burden hours (20 minutes/certificate): 2.

B. Certificate of Compliance: Total filers (executive branch): 10; Private citizen filers (100%): 10; OGE-processed certificates (private citizens): 10; private citizen burden hours (20 minutes/certificate): 3; and

ii. Model Qualified Trust Documents:

A. Blind Trust Communications: Total Users (executive branch): 5; Private citizen users (100%): 5; OGE-processed documents (private citizens): 25 (based on an average of five communications per user, per year); private citizen burden hours (20 minutes/communication): 8.

B. Model Qualified Blind Trust: Total Users (executive branch): 2; Private citizen users (100%): 2; OGE-processed models (private citizens): 2; private citizen burden hours (100 hours/model): 200.

C. Model Qualified Diversified Trust: Total users (executive branch): 1; Private citizen users (100%): 1; OGE-processed models (private citizens): 1; private citizen burden hours (100 hours/model): 100.

D.-H. Of the five remaining model qualified trust documents: Total users (executive branch): 2; Private citizen users (100%): 2; OGE-processed models (private citizens): 2; private citizen burden hours (100 hours/model): 200.

I.-J. Of the two model confidentiality agreements: Total users (executive branch): 1; Private citizen users (100%): 1; OGE-processed agreements (private citizens): 1; private citizen burden hours (50 hours/agreement): 50.

The total annual reporting hour burden, however, is zero (a change from the 563 hours estimate in the first round Federal Register notice and the 3,785 hours from the prior three-year period). After consultation with OMB, OGE has reexamined its estimating methodology to reflect the fact that all respondents hire private trust administrators or other private representatives to set up and maintain the qualified blind and diversified trusts. Respondents themselves, typically incoming private citizen Presidential nominees, incur no hour burden.

The new estimated total annual cost burden to respondents resulting from the collection of information is $1,000,000. Those who use the model documents for guidance are private trust administrators or other private representatives hired to set up and maintain the qualified blind and diversified trusts of executive branch officials who seek to establish qualified trusts. The cost burden figure is based primarily on OGE's knowledge of the typical trust administrator fee structure (an average of 1 percent of total assets) and OGE's experience with administration of the qualified trust program. The $1,000,000 annual cost figure is based on OGE's estimate of five active trusts anticipated to be under administration each year with combined total assets of $100,000,000. However, OGE notes that the $1,000,000 figure is a cost estimate for the overall administration of the trusts, only a portion of which relates to information collection and reporting. For want of a precise way to break out the costs directly associated with information collection, OGE is reporting to OMB the full $1,000,000 estimate for paperwork clearance purposes.

In this second round notice, public comment is again invited on each aspect of the model qualified trust certificates and model trust documents, and underlying regulatory provisions, as set forth in this notice, including specific views on the need for and practical utility of this set of collections of information, the accuracy of OGE's burden estimate, the potential for enhancement of quality, utility and clarity of the information collected, and the minimization of burden (including the use of information technology). The Office of Government Ethics, in consultation with OMB, will consider all comments received, which will become a matter of public record.

Approved: May 24, 2005.
Marilyn L. Glynn,
Acting Director, Office of Government Ethics.

[FR Doc. 05-10822 Filed 5-31-05; 8:45 am]

BILLING CODE 6345-02-P